SMALL BUSINESS ADMINISTRATION

[Disaster Declaration #10428 and #10429]

Missouri Disaster Number MO-00002

AGENCY: U.S. Small Business Administration.

ACTION: Amendment 2.

SUMMARY: This is an amendment of the Presidential declaration of a major disaster for the State of Missouri (FEMA-1631-DR), dated March 16, 2006.

Incident: Severe storms, tornadoes, and flooding.

Incident Period: March 11, 2006 through March 31, 2006.

Effective Date: April 6, 2006.

Physical Loan Application Deadline Date: May 15, 2006.

EIDL Loan Application Deadline Date: December 15, 2006.

ADDRESSES: Submit completed loan applications to: U.S. Small Business Administration, National Processing and Disbursement Center, 14925 Kingsport Road, Fort Worth, TX 76155.

FOR FURTHER INFORMATION CONTACT: Alan Escobar, Office of Disaster Assistance, U.S. Small Business Administration, 409 3rd Street, SW., Suite 6050, Washington, DC 20416.

SUPPLEMENTARY INFORMATION: The notice of the Presidential disaster declaration for the State of Missouri, dated March 16, 2006 is hereby amended to include the following areas as adversely affected by the disaster:

Primary Counties: Crawford

Contiguous Counties: All other information in the original declaration remains unchanged.

(Catalog of Federal Domestic Assistance Numbers 59002 and 59008)

Cheri L. Cannon,
Acting Associate, Administrator for Disaster Assistance.

[FR Doc. E6-5697 Filed 4-17-06; 8:45 am]

BILLING CODE 8025-01-P